GOVERNMENT ACCOUNTABILITY OFFICE

Appointments to the Medicare Payment Advisory Commission (MedPAC)

AGENCY: Government Accountability Office (GAO).

ACTION: Notice of appointments.

SUMMARY: The Balanced Budget Act of 1997 established the Medicare Payment Advisory Commission (MedPAC) and gave the Comptroller General responsibility for appointing its members. This notice announces the appointment of four new members and the reappointment of two existing members.

DATES: Appointments are effective May 1, 2010.

ADDRESSES:

GAO: 441 G Street, NW., Washington, DC 20548.

MedPAC: 601 New Jersey Avenue, NW., Suite 9000, Washington, DC 20001.

FOR FURTHER INFORMATION CONTACT:

GAO: Office of Public Affairs, (202) 512-4800.

MedPAC: Mark E. Miller, PhD, (202) 220-3700.

SUPPLEMENTARY INFORMATION: To fill this year's vacancies I am announcing the following:

Newly appointed members are Scott Armstrong, President and Chief Executive Officer, Group Health Cooperative; Katherine Baicker, PhD, Professor of Health Economics, Department of Health Policy and Management, Harvard School of Public Health; Mary Naylor, PhD, RN, FAAN, Professor of Gerontology and Director of the NewCourtland Center for Transitions and Health, University of Pennsylvania, School of Nursing; and Con Uccello, FSA, MAAA, FCA, Senior Health Fellow of the American Academy of Actuaries. Their terms will expire in 2013.

The reappointed members, whose terms will also expire in April 2013, are Thomas M. Dean, MD, a family physician in Wessington Springs, South Dakota and Herb B. Kuhn, President and CEO of the Missouri Hospital Association. [42 U.S.C. 1395b-6.]

Gene L. Dodaro,
Acting Comptroller General of the United States.

[FR Doc. 2010-13360 Filed 6-3-10; 8:45 am]

BILLING CODE 1610-02-M